DEPARTMENT OF AGRICULTURE

Forest Service

Klamath Provincial Advisory Committee (PAC)

AGENCY: Forest Service, USDA.

ACTION: Notice of meeting.

SUMMARY: The Klamath Provincial Advisory Committee will meet on February 3, 2000, at the Shasta-Trinity National Forest Conference Room, 2400 Washington Avenue, Redding, California. The meeting will start at 8:00 A.M. and will adjourn at 5:00 P.M. Agenda items for the meeting include: (1) Provincial Advisory Committee and Provincial Interagency Executive Committee Effectiveness, with discussions on roles/responsibilities, issue development, decisionmaking, and interaction processes; and (2) Public Comment Periods. All Provincial Advisory Committee meetings are open to the public. Interested citizens are encouraged to attend.

FOR FURTHER INFORMATION CONTACT: Connie Hendryx, USDA, Klamath National Forest, 11263 N. Hwy 3, Fort Jones, California 96032; telephone 530-468-1281 (voice), TDD 530-468-2783.

Dated: January 21, 2000.
Margaret J. Boland,
Forest Supervisor.

[FR Doc. 00-1921 Filed 1-26-00; 8:45 am]

BILLING CODE 3410-11-M